DEPARTMENT OF DEFENSE

Department of the Air Force

Notice of Intent To Prepare an Environmental Impact Statement for Optimization of the Powder River Training Complex

AGENCY: Department of the Air Force, Department of Defense.

ACTION: Notice of intent.

SUMMARY: The Department of the Air Force (DAF) is issuing this Notice of Intent (NOI) to prepare an Environmental Impact Statement (EIS) to assess the potential social, economic, and environmental impacts associated with optimization of the Powder River Training Complex (PRTC) (Unique Identification Number EISX-007-57-UAF-1729171028). The EIS will analyze the potential impacts from improvements to the airspace structure at PRTC to address shortfalls in day-to-day training for aircrews from Ellsworth Air Force Base (AFB) and Minot AFB and increasing Large Force Exercise (LFE) capability at PRTC to meet threats to National Security. The Federal Aviation Administration (FAA) is participating as a cooperating agency.

DATES: A public scoping period will run through September 9, 2025. Comments will be accepted at any time during the environmental impact analysis process; however, to ensure DAF has sufficient time to consider public scoping comments during preparation of the Draft EIS, please submit comments within the defined scoping period. A schedule is provided on the project website (www.PRTCairspaceEIS.com) and will be updated as the project progresses.

DAF invites the public, stakeholders, and other interested parties to attend a public scoping meeting. Scoping meetings will be held on the following dates, times, and locations:

• July 28, 2025, 5:00 p.m.-7:00 p.m., Hardin, MT

• July 29, 2025, 5:00 p.m.-7:00 p.m., Ashland, MT

• July 30, 2025, 5:00 p.m.-7:00 p.m., Baker, MT

• July 31, 2025, 5:00 p.m.-7:00 p.m., Bowman, ND

• August 1, 2025, 5:00 p.m.-7:00 p.m., Elgin, ND

• August 11, 2025, 5:00 p.m.-7:00 p.m., Spearfish, SD

• August 12, 2025, 5:00 p.m.-7:00 p.m., Bison, SD

• August 13, 2025, 5:00 p.m.-7:00 p.m., Sundance, WY

• August 14, 2025, 5:00 p.m.-7:00 p.m., Rapid City, SD

• August 19, 2025, 5:00 p.m.-6:00 p.m., Virtual Meeting #1

• August 20, 2025, 5:00 p.m.-6:00 p.m., Virtual Meeting #2

• August 21, 2025, 5:00 p.m.-6:00 p.m., Virtual Meeting #3

All meeting times are in mountain time. For information on the virtual scoping meetings and to view meeting materials please see the project website (www.PRTCairspaceEIS.com).

ADDRESSES: The addresses for the in-person public scoping meetings listed in the DATES section will be published in local newspapers and on the project website a minimum of 15 days prior to the meetings. Written scoping comments can be submitted at an in-person scoping meeting, via the project website (www.PRTCairspaceEIS.com), or via postal mail to Attn. PRTC Airspace EIS, 501 Butler Farm Rd., Suite H, Hampton, VA 23666.

FOR FURTHER INFORMATION CONTACT: For inquiries regarding accommodations under the Americans with Disability Act, please contact Grace Keesling, NEPA Project Manager at AFCEC.CIE.airspace.workflow@us.af.mil, or by phone at 1-380-458-2617.

SUPPLEMENTARY INFORMATION: The purpose of the Proposed Action is to facilitate training that ensures combat effectiveness and aircrew survivability. The Proposed Action is needed because the current PRTC does not allow aircrews to complete required high altitude day-to-day and LFE training, and because current limitations on LFEs prevent realistic training that ensures mission readiness and aircrew survivability.

DAF is considering two alternatives to implement the Proposed Action and the No Action Alternative.

For Alternative 1, the ceiling of two of the primary airspace segments used for day-to-day training (named Powder River 2 and Gateway West Air Traffic Control Assigned Airspaces [ATCAAs]) would be raised to 60,000 feet from the current 26,000 feet, improving the high-altitude training capability. This alternative also includes an administrative change to the published times of use to align with how the complex is currently used for day-to-day training. Under Alternative 1, the ceiling of all the PRTC airspace would be raised to 60,000 feet during LFEs and increase the LFE days from 10 days total per year to a total of 30 days per year. Increasing the duration and frequency of LFEs would increase the total sorties conducted within PRTC by 50 percent for a total of 4,974.

For Alternative 2, the ceiling of Powder River 2, Gateway West, and Gateway East ATCAAs would be raised to 60,000 feet from the current 26,000 feet for day-to-day training. Currently Gateway East ATCAA is only available for LFEs. Under this alternative, Gateway East ATCAA would now be available for day-to-day training and the lateral dimensions of the Gateway West ATCAA would be reduced. Other changes would be the same as Alternative 1 and include an administrative change to the published times of use for day-to-day training, raising the ceiling of the entire complex to 60,000 feet during LFEs and increasing the LFE days to a total of 30 days per year.

For the No Action Alternative, DAF would not implement changes to the airspace structure or increase the total LFE days. Use of the PRTC for day-to-day training and LFEs would continue as it does currently.

The DAF and Cooperating Agencies will determine the scope of the analysis by soliciting comments from interested local, state, and federally elected officials and agencies, federally recognized Native American tribes, as well as interested members of the public. Comments are requested on identification of potential alternatives, information, and analyses relevant to the Proposed Action.

Tommy W. Lee,
Acting Air Force Federal Register Liaison Officer.

[FR Doc. 2025-12981 Filed 7-10-25; 8:45 am]

BILLING CODE 3911-44-P